DEPARTMENT OF HOMELAND SECURITY

Coast Guard

33 CFR Part 117

[Docket No. USCG-2014-0365]

RIN 1625-AA09

Drawbridge Operation Regulation; Illinois Waterway, Joliet, IL

AGENCY: Coast Guard, DHS.

ACTION: Notice of proposed rulemaking.

SUMMARY: The Coast Guard proposes to modify the operating regulations for six drawbridges, located between river mile 285.8 and river mile 288.7, across the Illinois Waterway, at Joliet, Illinois. This rule proposes to consolidate the current operating regulation, which includes five on-site bridge tender control stations, into one centralized control point for all five drawbridges. This rule also proposes to add a sixth drawbridge that will also operate under the centralized control point. This proposed action is intended to improve navigational safety and operational efficiency in the Joliet area.

DATES: Comments and related material must reach the Coast Guard on or before October 27, 2014.

ADDRESSES: You may submit comments identified by docket number USCG-2014-0365 using any one of the following methods:

(1) Federal eRulemaking Portal: http://www.regulations.gov.

(2) Fax: 202-493-2251.

(3) Mail or delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these three methods.

FOR FURTHER INFORMATION CONTACT: If you have questions on this proposed rule, call or email Mr. Eric Washburn, Bridge Administrator, Western Rivers, (314) 269-2378, email Eric.Washburn@uscg.mil. If you have questions on viewing or submitting material to the docket, call Cheryl Collins, Program Manager, Docket Operations, telephone 202-366-9826.

SUPPLEMENTARY INFORMATION:

Table of Acronyms

CFR Code of Federal Regulations

DHS Department of Homeland Security

FR Federal Register

NPRM Notice of Proposed Rulemaking

§ Section Symbol

U.S.C. United States Code

A. Public Participation and Request for Comments

We encourage you to participate in this proposed rulemaking by submitting comments and related materials. All comments received will be posted, without change to http://www.regulations.gov and will include any personal information you have provided.

1. Submitting comments

If you submit a comment, please include the docket number for this rulemaking (USCG-2014-0365), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, type in the docket number [USCG-2014-0365] in the “SEARCH” box and click “SEARCH”. Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing comments and documents

To view comments, as well as documents mentioned in this preamble as being available in the docket, go to http://www.regulations.gov, type the docket number [USCG-2014-0365] in the “SEARCH” box and click “SEARCH”. Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting regarding this rulemaking. But you may submit a request for one using one of the three methods specified under ADDRESSES. Please explain why one would be beneficial. If we determine that one would aid this rulemaking, we will hold one at a time and place announced by a later notice in the Federal Register.

B. Regulatory History and Information

Currently, the Illinois Waterway drawbridge operation regulations contained in 33 CFR Part 117, Subpart B—Specific Requirements, 117.393 (c), state that “The draws of the McDonough Street Bridge, mile 287.3; Jefferson Street Bridge, Mile 287.9; Cass Street Bridge, Mile 288.1; Jackson Street Bridge, Mile 288.4; and Ruby Street Bridge, Mile 288.7; all of Joliet, shall open on signal, except that they need not open from 7:30 a.m. to 8:30 a.m. and from 4:15 p.m. to 5:15 p.m. Monday through Saturday.” Additionally, the Brandon Road Drawbridge, Mile 285.8, Illinois Waterway, also in Joliet, currently operates without a special operating schedule under Subpart B.

On July 12, 2012, the Illinois Department of Transportation requested approval of plans to centralize the bridge tenders for the five drawbridges listed in 33 CFR 117.393(c), and also to include the Brandon Road Drawbridge as a sixth drawbridge operated under this centralized plan. The Coast Guard determined that centralizing the bridge tenders and remotely operating the six Joliet highway drawbridges will not impede navigation. This determination is expected to be proven through a test period before a final rule is put into place. Additionally, this proposed rule change has been discussed with navigation interests on numerous occasions.

C. Basis and Purpose

The Illinois Waterway is a navigable waterway connecting Chicago, Illinois and Lake Michigan through a combination of improved natural waterways and canals with the Upper Mississippi River at Grafton, Illinois. This waterway spans a course of 327 miles. The U.S. Army Corps of Engineers operates nine locks on the Illinois Waterway that provide a safe and efficient navigation system, carrying approximately 24 million tons of cargo each year.

The goal of centralizing the drawbridge operations is to improve safety and operations for river and street traffic as well as the workers who conduct the operations. As proposed, centralizing the bridge tenders is anticipated to also improve the operating efficiency for all six drawbridges.

Centralizing the bridge tenders would have no impact on the existing regulations regarding hours or methods of bridge operations. This proposed rule change is in accordance with the provisions under 33 CFR 117.42 for remotely operated and automated drawbridges and would centralize the bridge tenders at one local control station.

D. Discussion of Proposed Rule

This rule proposes a local centralized control center, adjacent to Jackson Street Bridge, and bridge tender operation manned by three bridge tenders at all times, continuing to operate the five draw bridges as currently required under 33 CFR 117.393(c). Additionally, a sixth drawbridge, the Brandon Road Drawbridge, Mile 285.8, Illinois Waterway, would also be operated through the proposed centralized control center. The Brandon Road Drawbridge does not require a special operating schedule under Subpart B and will still open on signal or request, but it would be remotely operated from the new centralized location under this proposed rule. The local centralized bridge tender operation and control center will be supported by two dedicated fiber optic communication systems (one is redundant) with wireless backup, closed circuit television cameras, thermal cameras, and boat detection equipment at each bridge. This centralized control center network will be equipped with a diesel powered backup generator.

Through the use of multiple closed circuit television cameras, thermal (infrared) cameras, and boat detectors, the bridge operators will have a more comprehensive overview of vessel traffic.

The Coast Guard has determined that centralizing the bridge tenders to a local control station will not adversely impact navigation. Rather, this proposed centralized plan is intended to improve navigational safety in the Joliet area by providing bridge tenders a more comprehensive view of vessel traffic.

E. Regulatory Analyses

We developed this proposed rule after considering numerous statutes and executive orders related to rulemaking. Below we summarize our analyses based on these statutes or executive orders.

1. Regulatory Planning and Review

This proposed rule is not a “significant regulatory action” under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders.

We expect the economic impact of this rule on commercial traffic operating on the Illinois Waterway to be minimal. The operating procedures affected by this change will create more efficiency in vessel movement and proposes no new restrictions but centralizes the bridge tender operations. Therefore a full Regulatory Evaluation is unnecessary.

2. Impact on Small Entities

The Regulatory Flexibility Act of 1980 (5 U.S.C. 601-612), as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

This proposed rule would affect the following entities, some of which might be small entities: The owners or operators of vessels needing to transit through the bridge.

This action will not have a significant economic impact on a substantial number of small entities for the following reasons: This proposed action will provide greater efficiency in vessel movement by centralizing bridge tender operations which will reduce wait times for bride openings. This proposed rule further imposes no new restrictions on the waterway but merely changes the bridge tender operations.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule would call for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01, and Commandant Instruction M16475.lD which guides the Coast Guard in complying with the National Environmental Policy Act of 1969 (NEPA) (42 U.S.C. 4321-4370f), and have made a preliminary determination that this action is one of a category of actions which do not individually or cumulatively have a significant effect on the human environment. This proposed rule simply promulgates the operating regulations or procedures for drawbridges. This rule is categorically excluded, under figure 2-1, paragraph (32)(e), of the Instruction.

Under figure 2-1, paragraph (32)(e), of the Instruction, an environmental analysis checklist and a categorical exclusion determination are not required for this rule. We seek any comments or information that may lead to the discovery of a significant environmental impact from this proposed rule.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; Department of Homeland Security Delegation No. 0170.1.

2. Revise § 117.393(c) to read as follows:

§ 117.393 Illinois Waterway.

* * * * *

(c) The draws of the McDonough Street Bridge, mile 287.3; Jefferson Street Bridge, Mile 287.9; Cass Street Bridge, Mile 288.1; Jackson Street Bridge, Mile 288.4; and Ruby Street Bridge, Mile 288.7; all of Joliet, shall open on signal, except that they need not open from 7:30 a.m. to 8:30 a.m. and from 4:15 p.m. to 5:15 p.m. Monday through Saturday. These five bridges along with Brandon Road Drawbridge, Mile 285.8, Illinois Waterway are all operated from a local centralized location adjacent to the Jackson Street Bridge, Mile 288.4. Each of these six bridges is equipped with closed circuit television cameras, infrared cameras, and boat detection equipment.

* * * * *

Dated: August 6, 2014.
Kevin S. Cook,
Rear Admiral, Commander, U.S. Coast Guard, Eighth Coast Guard District.

[FR Doc. 2014-19990 Filed 8-26-14; 8:45 am]

BILLING CODE 9110-04-P